DEPARTMENT OF HEALTH AND HUMAN SERVICES

Public Health Service

National Toxicology Program (NTP); The NTP Annual Plan for Fiscal Year 2001; Notice of Availability and Request for Public Comments

SUMMARY: The NTP Annual Plan for Fiscal Year 2001 outlines the NTP research program for studying the toxicity of physical and chemical agents and for developing methods for toxicological evaluations. The Report also provides information about efforts to develop and validate alternative and improved methods and identifies NTP resource allocations.

Background

The NTP was established within the Public Health Service of the Department of Health and Human Services (DHHS) in November 1978. The NTP is an interagency program whose mission is to evaluate agents of public health concern by developing and applying the tools of modern toxicology and molecular biology. In carrying out its mission, the NTP has several goals to:

• Broaden the spectrum of toxicological information obtained on selected chemicals;

• Develop and validate more sensitive and specific test methods;

• Develop improved strategies for generating scientific data that strengthen the scientific foundation for risk assessments; and

• Communicate NTP plans and results to government agencies, the medical and scientific communities, and the public.

A balanced program was created that uses chronic exposure studies, short-term exposure studies, the collection and application of mechanistic information, model development, alternative methods, and human studies. Scientific activities are divided into several major program areas: Carcinogenesis, risk assessment research, alternative test systems, and toxicology. Toxicology covers activities in immunotoxicology, neurobehavioral toxicology, reproductive and developmental toxicology, respiratory toxicology and phototoxicology. Program and project leaders along with contact information are provided in the plan.

The NTP is an interagency program headquartered at the National Institute of Environmental Health Sciences (NIEHS) of the National Institutes of Health. The NIEHS along with the National Center for Toxicological Research of the Food and Drug Administration and the National Institute for Occupational Safety and Health of the Centers for Disease Control and Prevention are NTP core agencies. The Director of the NIEHS is also the NTP Director.

The NTP receives advice from two primary external advisory groups. The NTP Executive Committee provides primary program oversight and links DHHS health research institutes and centers with Federal health regulatory agencies. This effort helps to ensure that the NTP's basic and applied toxicology research and development activities are responsive to regulatory and public health needs.

The NTP Board of Scientific Counselors provides scientific oversight by advising the NTP Director on scientific content and evaluating the merit and overall quality of NTP science. The Board has two standing subcommittees, the Report on Carcinogens Subcommittee and the Technical Reports Review Subcommittee. The Secretary, DHHS, appoints the members.

Availability of the NTP Annual Plan

The NTP Annual Plan for Fiscal Year 2001 is available electronically on the NTP Web site, http://ntp-server.niehs.nih.gov. The report is also in the process of being printed and hard copies will be available from NTP Central Data Management (NIEHS, PO Box 12233, MD E1-02, Research Triangle Park, NC 27709; telephone 919-431-3419; fax 919-541-3687; cdm@niehs.nih.gov).

Solicitation of Public Comments

The NTP welcomes comments on the NTP Annual Plan for Fiscal Year 2001. Written comments should be submitted to Dr. Mary S. Wolfe, NTP Executive Secretary (NIEHS, PO Box 12233, MD A3-07, Research Triangle Park, NC 27709; fax 919-541-0295; liaison@starbase.niehs.nih.gov). Persons submitting comments are asked to provide their name, contact information, and sponsoring organization, if any.

Dated: January 11, 2002.
Kenneth Olden,
Director, National Toxicology Program.

[FR Doc. 02-2906 Filed 2-6-02; 8:45 am]

BILLING CODE 4140-01-P